ENVIRONMENTAL PROTECTION AGENCY

[FRL-7035-5]

Proposed Prospective Purchaser Agreement Under the Comprehensive Environmental Response, Compensation and Liability Act

AGENCY: Environmental Protection Agency.

ACTION: Notice of a prospective purchaser agreement and covenant not to sue the city of Vineland, New Jersey for a property within the vineland company chemical superfund site.

SUMMARY: The United States Environmental Protection Agency (EPA) is proposing to enter into a Prospective Purchaser Agreement to provide the City of Vineland, New Jersey, a covenant not to sue under the Comprehensive Environmental Response Compensation and Liability Act of 1980 (CERCLA), as amended, in connection with its proposed purchase and development of a property related to the Vineland Chemical Company Superfund Site. The property is currently owned by the WaWa Corporation. This agreement is intended to resolve a potentially responsible party's liability for certain response costs incurred by the EPA at the Vineland Chemical Superfund Site in Vineland, New Jersey. Notice is being published to inform the public of the Proposed Prospective Purchaser Agreement and of the opportunity to comment.

DATES: Comments must be provided on or before September 17, 2001.

ADDRESSES: Comments should be addressed to the U.S. Environmental Protection Agency, Office of Regional Counsel, 290 Broadway—17th Floor, New York, NY 10007 and should refer to: In the Matter of the Vineland Chemical Company Superfund Site: The City of Vineland, New Jersey, U.S. EPA Index No. CERCLA 2001-2012.

FOR FURTHER INFORMATION CONTACT: U.S. Environmental Protection Agency, Office of Regional Counsel, 290 Broadway—17th Floor, New York, NY 10007, Attention: Virginia Curry, Esq. (212) 637-3134, or curry.virginia@epamail.epa.gov.

SUPPLEMENTARY INFORMATION: Notice is hereby given of a Proposed Prospective Purchaser Agreement with the City of Vineland, New Jersey resolving the City's potential liability for a property within the Vineland Chemical Company Superfund Site. CERCLA authorizes EPA to enter this agreement. The Department of Justice approved this agreement pursuant to the inherent settlement authority of the Attorney General to settle claims of the United States.

A copy of the Proposed Prospective Purchaser Agreement, as well as background information relating to the agreement, may be obtained by mail from EPA's Region II Office of Regional Counsel, 290 Broadway—17th Floor, New York, NY 10007.

Proposed Prospective Purchaser Agreement under CERCLA—Vineland Chemical Company Superfund Site.

Dated: June 6, 2001.
Kathleen C. Callahan,
Acting Regional Administrator, Region 2.

[FR Doc. 01-20794 Filed 8-16-01; 8:45 am]

BILLING CODE 6560-50-P